Title 3—

The President

Executive Order 13161 of June 29, 2000

Establishment of the Presidential Medal of Valor for Public Safety Officers

By the authority vested in me as President by the Constitution and the laws of the United States of America, it is ordered:

Section 1. The Presidential Medal of Valor for Public Safety Officers (Medal) is established for the purpose of recognizing those public safety officers adjudged to have shown extraordinary valor above and beyond the call of duty in the exercise of their official duties. As used in this section, the term “public safety officer” means a person serving a public agency with or without compensation:

(1) as a law enforcement officer, including police, correctional, probation, or parole officers;

(2) as a firefighter or emergency responder; and

(3) who is employed by the Government of the United States, any State of the United States, any officially recognized elective body within a State of the United States, or any Federally recognized tribal organization.

Sec. 2. Eligible recipients generally will be recommended to the President by the Attorney General by April 1 of each year. Pursuant to 36 U.S.C. 136-137, the President designates May 15 of each year as “Peace Officers Memorial Day” and the week in which it falls as “Police Week.” Presentation of the Medal shall occur at an appropriate time during the commemoration of Police Week, as far as is practicable.

Sec. 3. The President may select for the Medal up to ten persons annually from among those persons recommended to the President by the Attorney General. In submitting recommendations to the President, the Attorney General may consult with experts representing all segments of the public safety sector, including representatives from law enforcement, firefighters, and emergency services.

Sec. 4. Those chosen for recognition shall receive a medal and a certificate, the designs of which shall be submitted by the Attorney General for the President's approval no later than December 1, 2000. The medal and certificate shall be prepared by the Department of Justice.

Sec. 5. The Medal may be given posthumously.

wj

THE WHITE HOUSE,

June 29, 2000.

[FR Doc. 00-17174

Filed 7-3-00; 8:45 am]

Billing code 3195-01-P